DEPARTMENT OF ENERGY

Federal Energy Regulatory Commission

[Docket No. EL05-19-000]

Golden Spread Electric Cooperative, Inc., Lyntegar Electric Cooperative, Inc., Farmers' Electric Cooperative, Inc., Lea County Electric Cooperative, Inc., Central Valley Electric Cooperative, Inc., Roosevelt County Electric Cooperative, Inc., Complainants v. Southwestern Public Service Company, Respondent; Notice of Complaint

November 3, 2004.

Take notice that on November 2, 2004, Golden Spread Electric Cooperative, Inc. (Golden Spread) Lyntegar Electric Cooperative, Inc., Farmers' Electric Cooperative, Inc., Lea County Electric Cooperative, Inc., Central Valley Electric Cooperative, Inc., and Roosevelt County Electric Cooperative, Inc. (collectively referred to as the Cooperative Customer Group) filed a Complaint Requesting Investigation and Hearing of Cost-Based Rates and Fuel Adjustment Clause Charges, and Establishment of Refund Effective Date against Respondent against Southwestern Public Service Company (SPS). The Cooperative Customer Group states that (1) SPS' cost-based rates for full and partial requirements service are excessive, are not just and reasonable and are unduly discriminatory or preferential; and (2) SPS has historically and continues to violate the applicable fuel charge adjustment clause (FCAC) provisions of the FERC-filed rate schedules applicable to each of its customers, and the Commission's FCAC Regulations.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on December 2, 2004.

Linda Mitry,
Deputy Secretary.

[FR Doc. E4-3077 Filed 11-8-04; 8:45 am]

BILLING CODE 6717-01-P